DEPARTMENT OF ENERGY

Federal Energy Regulatory Commission

Combined Notice of Filings #1

October 9, 2015.

Take notice that the Commission received the following electric corporate filings:

Docket Numbers: EC16-8-000.

Applicants: RPEP MTA Neptune, LLC, RPEP SMRS Neptune, LLC, Rahr Neptune, LLC, PowerBridge, LLC.

Description: Joint Application for Authorization Under Section 203 of the Federal Power Act and Request for Expedited Action.

Filed Date: 10/8/15.

Accession Number: 20151008-5234.

Comments Due: 5 p.m. ET 10/29/15.

Docket Numbers: EC16-9-000.

Applicants: PowerBridge, LLC, Boundless Energy, LLC, Anbaric Neptune, LLC, Standard Energy Development Inc., Cianbro Development Corporation, Charles J. Micoleau Trust, CTSBM Investments LLC, James Broder, Charles E. Hewett, Ullico Infrastructure Neptune Holdco, LL.

Description: Application for Authorization for Disposition of Jurisdictional Facilities, Requests for Confidential Treatment, Waivers, and Expedited Consideration of Ullico Infrastructure Neptune Holdco, LLC, et al. under EC16-9.

Filed Date: 10/8/15.

Accession Number: 20151008-5237.

Comments Due: 5 p.m. ET 10/29/15.

Take notice that the Commission received the following electric rate filings:

Docket Numbers: ER15-1437-001.

Applicants: Entergy Gulf States Louisiana, L.L.C.

Description: Tariff Amendment: EGSL-ETI Acquisition Adjustment to be effective 12/31/998.

Filed Date: 10/8/15.

Accession Number: 20151008-5214.

Comments Due: 5 p.m. ET 10/29/15.

Docket Numbers: ER15-2409-001.

Applicants: Midcontinent Independent System Operator, Inc.

Description: Tariff Amendment: 2015-10-08_SA 2825 Amendment to MidAmerican-Highland Wind GIA (J285) to be effective 8/4/2015.

Filed Date: 10/8/15.

Accession Number: 20151008-5209.

Comments Due: 5 p.m. ET 10/29/15.

Docket Numbers: ER16-40-000.

Applicants: Nevada Power Company.

Description: Compliance filing: OATT Revisions to Attachment O Update from NVE Database and Current to be effective 5/15/2015.

Filed Date: 10/8/15.

Accession Number: 20151008-5211.

Comments Due: 5 p.m. ET 10/29/15.

Docket Numbers: ER16-41-000.

Applicants: Electric Energy, Inc.

Description: Section 205(d) Rate Filing: Revised and Restated Cost-Based Power Contract to be effective 11/1/2015.

Filed Date: 10/8/15.

Accession Number: 20151008-5213.

Comments Due: 5 p.m. ET 10/29/15.

Docket Numbers: ER16-42-000.

Applicants: Pacific Gas and Electric Company.

Description: Section 205(d) Rate Filing: Balancing Account Update 2016 (TRBAA, RSBA, ECRBAA) to be effective 1/1/2016.

Filed Date: 10/8/15.

Accession Number: 20151008-5216.

Comments Due: 5 p.m. ET 10/29/15.

Docket Numbers: ER16-43-000.

Applicants: Southern California Edison Company.

Description: Section 205(d) Rate Filing: Service Agreement with Ecos Energy, LLC Painted Hill Solar Project to be effective 12/9/2015.

Filed Date: 10/9/15.

Accession Number: 20151009-5003.

Comments Due: 5 p.m. ET 10/30/15.

Docket Numbers: ER16-44-000.

Applicants: Southern California Edison Company.

Description: Section 205(d) Rate Filing: Large Generator Interconnection Agreement for Pastoria Energy Facility TOT645 to be effective 10/17/2015.

Filed Date: 10/9/15.

Accession Number: 20151009-5004.

Comments Due: 5 p.m. ET 10/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2015-26797 Filed 10-21-15; 8:45 am]

BILLING CODE 6717-01-P